DEPARTMENT OF ENERGY

Federal Energy Regulatory Commission

[Project No. 13637-001]

Great River Hydropower, LLC; Notice of Scoping Meetings and Environmental Site Review and Soliciting Scoping Comments

Take notice that the following hydroelectric application has been filed with Commission and is available for public inspection:

a. Type of Application: Original Major License.

b. Project No.: P-13637-001.

c. Date filed: July 12, 2010.

d. Applicant: Great River Hydropower, LLC.

e. Name of Project: Upper Mississippi River Lock & Dam No. 21 Hydroelectric Project.

f. Location: The proposed project would be located about 100 feet downstream of the U.S. Army Corps of Engineers' Lock and Dam No. 21 on the Mississippi River in Marion County, Missouri. The proposed project would occupy 5 acres of Federal lands.

g. Filed Pursuant to: Federal Power Act, 16 U.S.C. 791(a)-825(r).

h. Applicant Contact: Arie DeWaal, Mead & Hunt Inc., 6501 Watts Road, Madison, WI 53719; Telephone (608) 273-6380.

i. FERC Contact: Janet Hutzel, Telephone (202) 502-8675, or by e-mail at janet.hutzel@ferc.gov.

j. Deadline for filing scoping comments: April 7, 2011.

All documents may be filed electronically via the Internet. See 18 CFR 385.2001(a)(1)(iii) and the instructions on the Commission's Web site http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov or toll free at 1-866-208-3676, or for TTY, (202) 502-8659. Although the Commission strongly encourages electronic filing, documents may also be paper-filed. To paper-file, mail an original and seven copies to: Kimberly D. Bose, Secretary, Federal Energy Regulatory Commission, 888 First Street, NE., Washington, DC 20426.

The Commission's Rules of Practice and Procedure require all interveners filing documents with the Commission to serve a copy of that document on each person on the official service list for the project. Further, if an intervener files comments or documents with the Commission relating to the merits of an issue that may affect the responsibilities of a particular resource agency, they must also serve a copy of the document on that resource agency.

k. This application is not ready for environmental analysis at this time.

l. The proposed project would utilize the existing U.S. Army Corps of Engineers' Lock and Dam No. 21, and would consist of the following facilities: (1) A new 796-foot-long by 46-foot-wide by 25-foot-high concrete hydropower structure consisting of 30 turbine bays, located about 100 feet downstream of the existing dam; (2) 30 turbine-generator units having a total installed capacity of 15 megawatts; (3) two new 48-foot-long by 15-foot-wide by 45-foot-high concrete towers; (4) a new 40-foot-long by 30-foot-wide by 20-foot-high control building; (5) a new 120-foot-long by 120-foot-wide substation; (6) a new 1.5-mile-long access road; (7) a new 1.6-mile-long, 69-kilovolt transmission line; and (8) appurtenant facilities.

m. A copy of the application is available for review at the Commission in the Public Reference Room or may be viewed on the Commission's Web site at http://www.ferc.gov using the “eLibrary” link. Enter the docket number (P-13637) excluding the last three digits in the docket number field to access the document. For assistance, contact FERC Online Support. A copy is also available for inspection and reproduction at the address in item h above.

You may also register online at http://www.ferc.gov/docs-filing/esubscription.asp to be notified via e-mail of new filings and issuances related to this or other pending projects. For assistance, contact FERC Online Support.

n. Scoping Process.

The Commission intends to prepare an Environmental assessment (EA) on the project in accordance with the National Environmental Policy Act. The EA will consider both site-specific and cumulative environmental effects and reasonable alternatives to the proposed action.

Scoping Meetings

Commission staff will conduct one daytime scoping meeting, one evening meeting, and an Environmental Site Review. The daytime scoping meeting will focus on concerns of the resource agencies, non-governmental organizations, and Indian tribes, while the evening scoping meeting is primarily for public input. All interested individuals, organizations, and agencies are invited to attend one or both of the meetings and the environmental site review, and to assist the staff in identifying the scope of the environmental issues that should be analyzed in the EA. The times and locations of these meetings and the Environmental Site Review are as follows:

Daytime Scoping Meeting

Date and Time: Tuesday, March 8, 2011, 2 p.m. CST;

Location: City Council Chamber Room, Quincy City Hall, 720 Maine St., Quincy, IL 62301.

Evening Scoping Meeting

Date and Time: Tuesday, March 8, 2011, 6 p.m. CST;

Location: City Council Chamber Room, Quincy City Hall, 720 Maine St., Quincy, IL 62301.

Copies of the Scoping Document (SD1) outlining the subject areas to be addressed in the EA were distributed to the parties on the Commission's mailing list. Copies of the SD1 will be available at the scoping meeting or may be viewed on the Web at http://www.ferc.gov using the “eLibrary” link (see item m above).

Environmental Site Review

Date and Time: Tuesday, March 8, 2011, 9:30 a.m. CST.

Location: The Corp's Lock and Dam No. 21 observation tower, which can be accessed from the south entrance to the Lock and Dam No. 21. The address is 909 W Lock and Dam Road, Quincy, Illinois. All participants are responsible for providing photo identification to enter the Corps' facility, and photography and video will be prohibited.

Phone number: All participants must contact John Neyens, Klingner & Associates, P.C., 616 N. 24th Street, Quincy, IL 62301, phone 217-223-3670, by February 25, 2011, to attend the Environmental Site Review.

Objectives

At the scoping meetings, the Commission staff will: (1) Summarize the environmental issues tentatively identified for analysis in the EA; (2) solicit from the meeting participants all available information, especially quantifiable data, on the resources at issue; (3) encourage statements from experts and the public on issues that should be analyzed in the EA, including viewpoints in opposition to, or in support of, the staff's preliminary views; (4) determine the resource issues to be addressed in the EA; and (5) identify those issues that require a detailed analysis, as well as those issues that do not require a detailed analysis.

Procedures

The meetings are recorded by a stenographer and become part of the formal record of the Commission proceeding on the project.

Individuals; organizations; Indian Tribes; and Federal, State, and local agencies with environmental expertise and concerns are encouraged to attend the meeting and to assist Commission staff in defining and clarifying the issues to be addressed in the EA.

Dated: February 4, 2011.
Kimberly D. Bose,
Secretary.

[FR Doc. 2011-3152 Filed 2-10-11; 8:45 am]

BILLING CODE 6717-01-P